DEPARTMENT OF LABOR

Mine Safety and Health Administration

30 CFR Part 48

RIN 1219-AB35

Training Standards for Shaft and Slope Construction Workers at Underground Mines and Surface Areas of Underground Mines

Correction

In rule document 05-24624 beginning on page 77716 in the issue of Friday, December 30, 2005, make the following corrections:

1. On page 77718, in Table 2, in the third column, in the first and second lines of the column heading, “UG & ≤ surf.” should read “UG & surf.”.

2. On page 77721, in the first column, in the second full paragraph, in the first line, “Shaft and slope workers” should read, ““Shaft and slope workers”.

[FR Doc. C5-24624 Filed 1-20-06; 8:45 am]

BILLING CODE 1505-01-D

DEPARTMENT OF TRANSPORTATION

Federal Motor Carrier Safety Administration

49 CFR Parts 383 and 384

[Docket No. FMCSA-2005-21603]

RIN 2126-AA94

Commercial Driver's License Standards; School Bus Endorsement

Correction

In rule document 06-413 beginning on page 2897 in the issue of Wednesday, January 18, 2006, make the following correction:

On page 2897, in the second column, footnote 1 at the bottom of the column should read “¹As pertinent to this rule, a CMV is a motor vehicle used in commerce that is designed to transport at least 16 passengers, including the driver. 49 U.S.C. 31301(4)(B)”.

[FR Doc. C6-413 Filed 1-20-06; 8:45 am]

BILLING CODE 1505-01-D